DEPARTMENT OF HEALTH AND HUMAN SERVICES

Substance Abuse and Mental Health Services Administration

Advisory Committee for Women's Services; Notice of Meeting

Pursuant to Public Law 92-463, notice is hereby given of a meeting of the Substance Abuse and Mental Health Services Administration's (SAMHSA) Advisory Committee for Women's Services (ACWS) on August 10, 2017.

The meeting will include discussions on the role of SAMHSA's Office of the Chief Medical Officer and emerging issues for women; a follow-up discussion on the Office of Women's Health Report on Women and Opioids; the invisibility of American Indian/American Native women; Legislative updates, including the Cures Act and the Comprehensive Addiction Recovery Act; and a conversation with the Deputy Assistant Secretary for Mental Health and Substance Use.

The meeting is open to the public and will be held at SAMHSA, 5600 Fishers Lane, Rockville, MD, 20857, in Conference Room 5E45. Attendance by the public will be limited to space available. Interested persons may present data, information, or views, orally or in writing, on issues pending before the committee. Written submissions should be forwarded to the contact person (below) by August 2, 2017. Oral presentations from the public will be scheduled at the conclusion of the meeting. Individuals interested in making oral presentations are encouraged to notify the contact person on or before August 2, 2017. Five minutes will be allotted for each presentation.

The meeting may be accessed via telephone. To attend on site, obtain the call-in number and access code, submit written or brief oral comments, or request special accommodations for persons with disabilities, please register on-line at http://nac.samhsa.gov/Registration/meetingsRegistration.aspx, or communicate with SAMHSA's Designated Federal Officer, Ms. Nadine Benton (see contact information below).

Substantive meeting information and a roster of Committee members may be obtained either by accessing the SAMHSA Committees' Web https://www.samhsa.gov/about-us/advisory-councils/meetings, or by contacting Ms. Benton.

Committee Name: Substance Abuse and Mental Health Services Administration Advisory Committee for Women's Services (ACWS).

Date/Time/Type: Thursday, August 2, 2017, from: 9:00 a.m. to 4:45 p.m. EDT.

Open:

Place: SAMHSA, 5600 Fishers Lane, Conference Room 5N76, Rockville, Maryland 20857.

Contact: Nadine Benton, Designated Federal Official, SAMHSA's Advisory Committee for Women's Services, 5600 Fishers Lane, Rockville, MD 20857, Telephone: (240) 276-0127, Fax: (240) 276-2252, Email: nadine.benton@samhsa.hhs.gov.

Brian Makela,
Chemist, Substance Abuse and Mental Health Services Administration.

[FR Doc. 2017-16217 Filed 8-1-17; 8:45 am]

BILLING CODE 4162-20-P